DEPARTMENT OF COMMERCE

International Trade Administration

[A-201-802]

Gray Portland Cement and Clinker From Mexico: Notice of Extension of the Time Limit for the Final Results of Antidumping Duty Administrative Review

AGENCY: Import Administration, International Trade Administration, Department of Commerce.

SUMMARY: The Department of Commerce is extending the time limit for the final results of the administrative review of the antidumping duty order on gray portland cement and clinker from Mexico until December 20, 2004. This extension applies to one manufacturer/exporter, CEMEX, S.A. de C.V., and its affiliate, GCC Cemento, S.A. de C.V. The period of review is August 1, 2002, through July 31, 2003.

DATES: Effective October 24, 2004.

FOR FURTHER INFORMATION CONTACT: Jeffrey Frank or Hermes Pinilla, Import Administration, International Trade Administration, U.S. Department of Commerce, 14th Street and Constitution Avenue, NW., Washington, DC 20230; telephone: (202) 482-0090 and (202) 482-3477, respectively.

Background

On September 30, 2003, the Department of Commerce (the Department) published in the Federal Register the Initiation of Antidumping and Countervailing Duty Administrative Reviews, Request for Revocation in Part and Deferral of Administrative Review (68 FR 56262) in which it initiated an administrative review of the antidumping duty order on gray portland cement and clinker from Mexico. On April 28, 2004, the Department published a notice extending the date for issuing the preliminary results of this review until June 14, 2004. See Gray Portland Cement and Clinker From Mexico: Notice of Extension of the Time Limit for the Preliminary Results of Antidumping Duty Administrative Review, 69 FR 23172. On June 22, 2004, the Department published in the Federal Register the preliminary results of this administrative review. See Preliminary Results of Antidumping Duty Administrative Review: Gray Portland Cement and Clinker From Mexico, 69 FR 34647.

Extension of Time Limit for Final Results

Section 751(a)(3)(A) of the Tariff Act of 1930, as amended (the Act), requires the Department to issue the final results of an antidumping duty administrative review within 120 days of the date on which the preliminary results are published. Currently, the due date for the final results is October 20, 2004. The Act also provides that the Department may extend the 120-day period to 180 days, if it determines that it is not practicable to complete the review within the foregoing time period.

This review involves complex factual and legal issues regarding sales of a new type of cement, and the Department needs additional time to consider the issue. For this reason, the Department has determined that it is not practicable to complete the final results within the time limit mandated by section 751(a)(3)(A) of the Act. Therefore, in accordance with that section, the Department is extending the time limit for completion of the final results by 60 days.

The final results of review are now due no later than December 20, 2004. This extension of the time limit is in accordance with section 751(a)(3)(A) of the Act.

Dated: October 18, 2004.
Jeffrey A. May,
Deputy Assistant Secretary for Import Administration.

[FR Doc. E4-2804 Filed 10-21-04; 8:45 am]

BILLING CODE 3510-DS-P